DEPARTMENT OF TRANSPORTATION

Federal Railroad Administration

[Docket Number FRA-2013-0019]

Petition for Waiver of Compliance

In accordance with Part 211 of Title 49 Code of Federal Regulations (CFR), this document provides the public notice that by a document dated February 21, 2013, the Old Augusta Railroad (OAR) has petitioned the Federal Railroad Administration (FRA) for a waiver of compliance from certain provisions of the Federal hours of service laws contained at 49 U.S.C. 21103(a)(4). FRA assigned the petition Docket Number FRA-2013-0019.

In its petition, OAR seeks relief from 49 U.S.C. 21103(a)(4), which, in part, requires a train employee to receive 48 hours off-duty after initiating an on-duty period for 6 consecutive days. Specifically, OAR seeks a waiver to allow a train employee to initiate an on-duty period each day for 7 consecutive days followed by 1 day off duty and an 8th day assignment with 2 days off duty. In support of its request, OAR submitted documents demonstrating its employees' support for the requested waiver and a description of its employees' work schedules. According to OAR, train employees have set start times and set off-duty days, and do not lay over at away-from-home terminals. Additionally, OAR claims that it operates one switching job per day, serving only one industry in a 12-hour cycle. The typical duty tour is from 5 a.m. to 5 p.m., 7 days per week, with an occasional switching move outside of the regular shift. Two crews share the 7-day-per-week schedule. OAR also states that before the Rail Safety Improvement Act of 2008, its employees worked 7 days on, 7 days off, subject to an infrequent call. OAR asserts that its employees worked this type of schedule for 18 years without any safety problems, and that it was awarded the American Short Line and Regional Railroad Association Jake Award each year during those 18 years.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by May 28, 2013 will be considered by FRA before final action is taken. Comments received after that date will be considered as far as is practicable.

Anyone is able to search the electronic form of any written communications and comments received into any of our dockets by the name of the individual submitting the comment (or signing the document, if submitted on behalf of an association, business, labor union, etc.). See http://www.regulations.gov/#!privacyNotice for the privacy notice of regulations.gov or interested parties may review DOT's complete Privacy Act Statement in the Federal Register published on April 11, 2000 (65 FR 19477).

Issued in Washington, DC, on April 8, 2013.
Robert C. Lauby,
Deputy Associate Administrator for Regulatory and Legislative Operations.

[FR Doc. 2013-08490 Filed 4-10-13; 8:45 am]

BILLING CODE 4910-06-P